DEPARTMENT OF HEALTH AND HUMAN SERVICES

Centers for Disease Control and Prevention

[60Day-05-0212]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-498-1210 or send comments to Sandi Gambescia, CDC Assistant Reports Clearance Officer, 1600 Clifton Road, MS-E11, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Hospital Discharge Survey (OMB No. 0920-0212)—Extension—National Center for Health Statistics (NCHS), Centers for Disease Control and Prevention (CDC).

The National Hospital Discharge Survey (NHDS) has been conducted continuously by CDC, National Center for Health Statistics since 1965. It is the principal source of data on inpatient utilization of short-stay, non-Federal hospitals and is the only annual source of nationally representative estimates on the characteristics of discharges, the lengths of stay, diagnoses, surgical and non-surgical procedures, and the patterns of use of care in hospitals in various regions of the country. It is the benchmark against which special programmatic data sources are compared. Data collected through the NHDS are essential for evaluating the health status of the population, planning of programs and policy to elevate the health status of the Nation, studying morbidity trends, and research activities in the health field. NHDS data have been used extensively in the development and monitoring of goals for the Year 2000 and 2010 Health Objectives. In addition, NHDS data provide annual updates for numerous tables in the Congressionally-mandated NCHS report, Health, United States.

Data for the NHDS are collected annually on approximately 300,000 discharges from a nationally representative sample of noninstitutional hospitals exclusive of Federal, military and Veterans' Administration hospitals. The data items collected are the basic core of variables contained in the Uniform Hospital Discharge Data Set (UHDDS) in addition to two data items (admission type and source) which are identical to those needed for billing of inpatient services for Medicare patients. In the 2003 NHDS, 426 hospitals participated. Data for approximately forty-four percent of the responding hospitals (186) are abstracted from medical records. The remaining hospitals supply data through in-house tapes or printouts (80 hospitals) or are hospitals that belong to commercial abstract service organizations or state data systems (160 hospitals) from which electronic data files are purchased. There is no actual cost to respondents since hospital staff who actively participate in the data collection effort are compensated by the government for their time.

Medical record abstracts | Number of respondents (hospitals) | Number of responses/ respondent | Average burden/response (in hrs.) | Total burden hours
Primary Procedure Hospitals | 62 | 250 | 5/60 | 1,292
Alternate Procedure Hospitals | 124 | 250 | 1/60 | 517
In-House Tape or Printout Hospitals | 80 | 12 | 12/60 | 192
Induction Forms | 15 | 1 | 2 | 30
Non-response Study | 50 | 1 | 2 | 100
Total |  |  |  | 2,131

Dated: November 12, 2004.
B. Kathy Skipper,
Acting Director, Management Analysis and Services Office, Centers for Disease Control and Prevention.

[FR Doc. 04-26023 Filed 11-23-04; 8:45 am]

BILLING CODE 4163-18-P